DEPARTMENT OF HOMELAND SECURITY

Federal Emergency Management Agency

[Docket ID: FEMA-2014-0010; OMB No. 1660-0010]

Agency Information Collection Activities: Proposed Collection; Comment Request; Implementation of Coastal Barrier Legislation

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning applications for National Flood Insurance Program (NFIP) insurance for buildings located in Coastal Barrier Resources System (CBRS) communities.

DATES: Comments must be submitted on or before May 5, 2014.

ADDRESSES: To avoid duplicate submissions to the docket, please use only one of the following means to submit comments:

(1) Online. Submit comments at http://www.regulations.gov under Docket ID FEMA-2014-0010. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Mary Chang, Insurance Examiner, Risk Insurance Division, Mitigation Directorate, (202) 212-4712 for additional information. You may contact the Records Management Division for copies of the proposed collection of information at facsimile number (202) 646-3347 or email address: FEMA-Information-Collections-Management@dhs.gov.

SUPPLEMENTARY INFORMATION: The Coastal Barrier Resources Act (16 U.S.C. 3501, et seq.; Pub. L. 97-348) and the Coastal Barrier Improvement Act of 1990 (Pub. L. 101-591) are Federal laws that were enacted on October 18, 1982, and November 16, 1990, respectively, as part of a Department of the Interior (DOI) initiative to preserve the ecological integrity of areas DOI designates as coastal barriers and otherwise protected areas. The laws provide this protection by prohibiting all Federal expenditures or financial assistance, including flood insurance, for residential or commercial development in areas identified with the system. The Federal Emergency Management Agency's (FEMA) regulations at Title 44 of the Code of Federal Regulations (CFR) Part 71 implement section 11 of the Coastal Barrier Resources Act and section 9 of the Coastal Barrier Improvement Act of 1990, as those Acts amend the National Flood Insurance Act of 1968 (42 U.S.C. 4001, et seq.). When an application for flood insurance is submitted to FEMA, the owner of a structure located in an area identified as being in the Coastal Barrier Resource System (CBRS) or an otherwise protected area is required to provide documentation to FEMA in accordance with 44 CFR 71.4 to show that the structure is eligible for flood insurance.

Collection of Information

Title: Implementation of Coastal Barrier Legislation.

Type of Information Collection: Extension, without change, of a currently approved information collection.

FEMA Forms: None.

Abstract: When an application for flood insurance is submitted for buildings located in a CBRS or an otherwise protected area, one of the following types of documentation must be submitted as evidence of eligibility: (a) Certification from a community official stating the building is not located in a designated CBRS area; (b) A legally valid building permit or certification from a community official stating that the start date of a building's construction preceded the date that the community was identified in the CBRS; or (c) Certification from the governmental body overseeing the area indicating that the building is used in a manner consistent with the purpose for which the area is protected.

Affected Public: Individuals or households; Businesses or other for profits; Not-for-profit institutions; Farms; and State, local or Tribal governments.

Number of Respondents: 2690.

Number of Responses: 2690.

Estimated Total Annual Burden Hours: 672.5.

Estimated Cost: The estimated annual operations and maintenance costs for technical services is $2690.00. There is no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 21, 2014.
Charlene D. Myrthil,
Director, Records Management Division, Mission Support Bureau, Federal Emergency Management Agency, Department of Homeland Security.

[FR Doc. 2014-04915 Filed 3-5-14; 8:45 am]

BILLING CODE 9110-11-P